DEPARTMENT OF THE INTERIOR

Fish and Wildlife Service

Notice of Decision and Availability of the Record of Decision for the Final Comprehensive Conservation Plan and Environmental Impact Statement for Nisqually National Wildlife Refuge, Thurston and Pierce Counties, Washington

AGENCY: Fish and Wildlife Service, Interior.

ACTION: Notice of decision and availability of the record of decision.

SUMMARY: This is a notice of decision and availability of the Record of Decision (ROD) for the Nisqually National Wildlife Refuge Final Comprehensive Conservation Plan and Environmental Impact Statement (Final CCP/EIS). The Refuge is located in Thurston and Pierce Counties, Washington. A thorough analysis of the environmental, social, and economic considerations was completed and presented in the Final CCP/EIS. The Final CCP/EIS was released to the public and a Notice of Availability was published in the Federal Register on August 31, 2004 (69 FR 53084). The ROD documents the selection of Alternative D, the Preferred Alternative in the Final CCP/EIS, as the CCP for Nisqually Refuge. The ROD was signed by the Regional Director, U.S. Fish and Wildlife Service, Pacific Region, on November 1, 2004.

ADDRESSES: A copy of the ROD or Final CCP/EIS may be obtained from the Refuge Manager, Nisqually National Wildlife Refuge Complex, 100 Brown Farm Road, Olympia, Washington 98516, Phone (360) 753-9467, or from the following Web site: http://pacific.fws.gov/planning.

FOR FURTHER INFORMATION CONTACT: Contact the Refuge Manager, Nisqually National Wildlife Refuge Complex, 100 Brown Farm Road, Olympia, Washington 98516, Phone (360) 753-9467.

SUPPLEMENTARY INFORMATION: The Nisqually Refuge's CCP will provide management guidance for conservation of Refuge resources and public use activities during the next 15 years. The following is a summary of the Nisqually Refuge's Final CCP/EIS ROD.

The Service has selected Alternative D, the Preferred Alternative, as the CCP for Nisqually Refuge. Alternative D addresses the key issues and conflicts identified during the planning process and will best achieve the purposes and goals of the Refuge as well as the mission of the National Wildlife Refuge System. This decision includes adoption of stipulations and mitigation measures identified in Alternative D, Appendix G Compatibility Determinations, and Appendix I Goals, Objectives and Strategies, of the Final CCP/EIS. Implementation of the CCP will occur over the next 15 years, depending on future staffing levels, funding, and willing sellers.

Factors Considered in Making the Decision

The decision was based on a thorough analysis of the environmental, social, and economic considerations presented in the Final CCP/EIS. During the decision making phase of the CCP process, the Service reviewed and considered: the impacts identified in Chapter 4 of the Draft and Final CCP/EIS; the results of various studies and surveys conducted in conjunction with the Draft and Final CCP/EIS; relevant issues, concerns, and opportunities; comments on the Draft and Final CCP/EIS; and other relevant factors, including the purposes for which the Refuge was established, and statutory and regulatory guidance. Alternative D incorporates several components addressing a variety of needs including fish and wildlife sanctuary, habitat restoration and protection, Refuge expansion, and the National Wildlife Refuge System's six priority public uses. It is, however, the unique combination of these components that contributes the most to achieving the Refuge's purposes and goals. Alternative D strengthens the monitoring of fish, wildlife, habitat, and public uses on the Refuge which will provide the means to better respond to rapidly changing conditions within the surrounding, growing urban environment. Alternative D was selected for implementation because it provides the greatest number of opportunities for the Refuge to contribute to the fish, wildlife, and habitat needs of the Nisqually River watershed and the greater Puget Sound region.

David J. Wesley,
Acting Regional Director, Region 1, Portland, Oregon.

[FR Doc. 04-27023 Filed 12-8-04; 8:45 am]

BILLING CODE 4310-55-P